ENVIRONMENTAL PROTECTION AGENCY

[EPA-HQ-OPP-2014-0335; FRL-9916-40]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period April 1, 2014 to June 30, 2014 to control unforeseen pest outbreaks.

FOR FURTHER INFORMATION CONTACT: Lois Rossi, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. How can I get copies of this document and other related information?

The docket for this action, identified by docket identification (ID) number EPA-HQ-OPP-2014-0335, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA has granted emergency exemptions to the following State and Federal agencies. The emergency exemptions may take the following form: Crisis, public health, quarantine, or specific.

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, and the duration of the exemption.

III. Emergency Exemptions

A. U.S. States and Territories

Arkansas

State Plant Board

Specific Exemption: EPA authorized the use of potassium salt of hop beta acids in beehives to control varroa mite; April 17, 2014 to December 31, 2014.

Arizona

Department of Agriculture

Specific Exemption: EPA authorized the use of flutriafol on cotton to control cotton root rot; April 14, 2014 to June 15, 2014.

Delaware

Department of Agriculture

Specific Exemption: EPA authorized the use of dinotefuran on pome fruit and stone fruit to control the brown marmorated stinkbug; April 29, 2014 to October 15, 2014.

Specific Exemption: EPA authorized the use of bifenthrin on apple, peach, and nectarine to control the brown marmorated stinkbug; June 20, 2014 to October 15, 2014.

Florida

Department of Agriculture and Consumer Services

Crisis Exemption: On April 8, 2014, for use of clothianidin on young citrus trees to control transmission of Huanglongbing disease caused by Asian Citrus Psyllid. Florida Department of Agriculture and Consumer Services has also submitted a specific exemption request which allows the use to continue beyond the 15 days allowed under a crisis exemption, because the use is needed until November 1, 2014. EPA is currently evaluating that request. Since this use is for a neonicotinoid, EPA published a notice of receipt for the specific exemption request in the Federal Register on May 21, 2014 (79 FR 29185) (FRL-9909-94) with the public comment period closing on May 28, 2014.

Specific Exemption: EPA authorized the use of potassium salt of hop beta acids in beehives to control varroa mite; May 16, 2014 to December 31, 2014.

Specific Exemption: EPA authorized the use of streptomycin on grapefruit to control citrus canker; June 12, 2014 to June 12, 2015. EPA authorized the use because available alternative controls are not adequate to effectively control this disease, since they cause phytotoxic effects to the citrus when used during higher temperatures. Significant economic losses are occurring without control of this pathogen, which has become a serious threat to the fresh-market grapefruit industry in Florida. Since this request proposed the use of a material also used in humans and animals as an antibiotic drug, a notice of receipt published in the Federal Register on May 21, 2014 (79 FR 29185) (FRL-9909-94) with the public comment period closing on May 28, 2014.

Georgia

Department of Agriculture

Specific Exemption: EPA authorized the use of terbufos on cotton to control southern root knot nematodes; May 20, 2014 to July 1, 2014. EPA authorized the use because the loss of the industry standard tool resulted in a critical and urgent emergency situation and alternative controls were not adequate to effectively control this disease. Since this request proposed the use of an active ingredient which belongs to the organophosphate class of pesticides, a notice of receipt published in the Federal Register on May 21, 2014 (79 FR 29185) (FRL-9909-94) with the public comment period closing on May 28, 2014.

Kentucky

Department of Agriculture

Specific Exemption: EPA authorized the use of potassium salt of hop beta acids in beehives to control varroa mite; May 22, 2014 to December 31, 2014.

Louisiana

Department of Agriculture and Forestry

Quarantine Exemption: EPA authorized the use of fipronil as an expansion of the registered use, to control an invasive crazy ant species (commonly referred to as the tawny crazy ant) around the outside of manmade structures in counties where the ant has been confirmed; April 23, 2014 to November 1, 2015.

Specific Exemption: EPA authorized the use of potassium salt of hop beta acids in beehives to control varroa mite; April 18, 2014 to December 31, 2014.

Specific Exemption: EPA authorized the use of sulfoxaflor on sorghum to control sugarcane aphid; April 30, 2014 to October 31, 2014.

Maine

Department of Agriculture, Conservation and Forestry

Specific Exemption: EPA authorized the use of potassium salt of hop beta acids in beehives to control varroa mite; April 23, 2014 to December 31, 2014.

Maryland

Department of Agriculture

Specific Exemption: EPA authorized the use of potassium salt of hop beta acids in beehives to control varroa mite; April 23, 2014 to December 31, 2014.

Specific Exemption: EPA authorized the use of dinotefuran on pome fruit and stone fruit to control the brown marmorated stinkbug; April 29, 2014 to October 15, 2014.

Specific Exemption: EPA authorized the use of bifenthrin on apple, peach, and nectarine to control the brown marmorated stinkbug; June 20, 2014 to October 15, 2014.

Massachusetts

Department of Agricultural Resources

Specific Exemption: EPA authorized the use of potassium salt of hop beta acids in beehives to control varroa mite; April 17, 2014 to December 31, 2014.

Michigan

Department of Agriculture and Rural Development

Specific Exemption: EPA authorized the use of dinotefuran on pome fruit and stone fruit to control the brown marmorated stinkbug; April 29, 2014 to November 30, 2014.

Mississippi

Department of Agriculture and Commerce

Quarantine Exemption: EPA authorized the use of fipronil as an expansion of the registered use, to control an invasive crazy ant species (commonly referred to as the tawny crazy ant) around the outside of manmade structures in counties where the ant has been confirmed; May 22, 2014 to November 1, 2015.

Specific Exemption: EPA authorized the use of potassium salt of hop beta acids in beehives to control varroa mite; April 29, 2014 to December 31, 2014.

Specific Exemption: EPA authorized the use of sulfoxaflor on sorghum to control sugarcane aphid; June 12, 2014 to October 31, 2014.

Missouri

Department of Agriculture

Specific Exemption: EPA authorized the use of potassium salt of hop beta acids in beehives to control varroa mite; April 18, 2014 to December 31, 2014.

Nebraska

Department of Agriculture

Specific Exemption: EPA authorized the use of potassium salt of hop beta acids in beehives to control varroa mite; May 16, 2014 to December 31, 2014.

Nevada

Department of Agriculture

Specific Exemption: EPA authorized the use of potassium salt of hop beta acids in beehives to control varroa mite; April 17, 2014 to December 31, 2014.

New York

Department of Environmental Conservation

Specific Exemption: EPA authorized the use of bifenthrin on apple, peach, and nectarine to control the brown marmorated stinkbug; June 20, 2014 to October 15, 2014.

North Carolina

Department of Agriculture and Consumer Services

Specific Exemption: EPA authorized the use of dinotefuran on pome fruit and stone fruit to control the brown marmorated stinkbug; May 28, 2014 to October 15, 2014.

Specific Exemption: EPA authorized the use of bifenthrin on apple, peach, and nectarine to control the brown marmorated stinkbug; June 20, 2014 to October 15, 2014.

North Dakota

Department of Agriculture

Specific Exemption: EPA authorized the use of potassium salt of hop beta acids in beehives to control varroa mite; April 17, 2014 to December 31, 2014.

Ohio

Department of Agriculture

Specific Exemption: EPA authorized the use of potassium salt of hop beta acids in beehives to control varroa mite; April 18, 2014 to December 31, 2014.

Oklahoma

Department of Agriculture, Food, and Forestry

Specific Exemption: EPA authorized the use of flutriafol on cotton to control cotton root rot; April 14, 2014 to June 30, 2014.

Specific Exemption: EPA authorized the use of potassium salt of hop beta acids in beehives to control varroa mite; April 17, 2014 to December 31, 2014.

Specific Exemption: EPA authorized the use of sulfoxaflor on sorghum to control sugarcane aphid; April 30, 2014 to October 31, 2014.

Pennsylvania

Department of Agriculture

Specific Exemption: EPA authorized the use of dinotefuran on pome fruit and stone fruit to control the brown marmorated stinkbug; May 28, 2014 to October 15, 2014.

Specific Exemption: EPA authorized the use of bifenthrin on apple, peach, and nectarine to control the brown marmorated stinkbug; June 20, 2014 to October 15, 2014.

South Carolina

Department of Agriculture

Specific Exemption: EPA authorized the use of terbufos on cotton to control southern root knot nematodes; May 30, 2014 to July 1, 2014.

South Dakota

Department of Agriculture

Specific Exemption: EPA authorized the use of potassium salt of hop beta acids in beehives to control varroa mite; May 16, 2014 to December 31, 2014.

Texas

Department of Agriculture

Specific Exemption: EPA authorized the use of sulfoxaflor on sorghum to control sugarcane aphid; April 24, 2014 to October 31, 2014.

Virginia

Department of Agriculture and Consumer Services

Specific Exemptions: EPA authorized the use of dinotefuran on pome fruit and stone fruit to control the brown marmorated stinkbug; April 29, 2014 to October 15, 2014.

Specific Exemption: EPA authorized the use of bifenthrin on apple, peach, and nectarine to control the brown marmorated stinkbug; June 20, 2014 to October 15, 2014.

Washington State

Department of Agriculture

Specific Exemption: EPA authorized the use of lambda-cyhalothrin on asparagus to control European asparagus aphid; May 22, 2014 to September 30, 2014.

West Virginia

Department of Agriculture

Specific Exemption: EPA authorized the use of potassium salt of hop beta acids in beehives to control varroa mite; April 23, 2014 to December 31, 2014.

Specific Exemption: EPA authorized the use of dinotefuran on pome fruit and stone fruit to control the brown marmorated stinkbug; April 29, 2014 to October 15, 2014.

Specific Exemption: EPA authorized the use of bifenthrin on apple, peach, and nectarine to control the brown marmorated stinkbug; June 20, 2014 to October 15, 2014.

Wyoming

Department of Agriculture

Specific Exemption: EPA authorized the use of diflubenzuron on alfalfa to control the Mormon cricket and grasshoppers; June 6, 2014 to October 31, 2014. EPA authorized the use because projected levels of grasshoppers are very high for 2014 and the available alternatives are not expected to avert significant economic losses under outbreak conditions. Since this use has been requested for more than 5 years and an application for registration has not yet been received by EPA, a Notice of Receipt with opportunity for public comment published in the Federal Register, as required by 40 CFR 166.24, on April 30, 2014 (79 FR 24418) (FRL-9908-39) with public comment period closing on May 15, 2014.

B. Federal Departments and Agencies

Agriculture Department

Animal and Plant Health Inspection Service

Quarantine Exemption: EPA authorized a quarantine exemption to permit cotton growers to plant up to 100% of cotton acreage to transgenic (Bt) cotton, in conjunction with sterile insect release, as a Pink Bollworm (PBW) eradication strategy, in the PBW eradication area in California; April 23, 2014 to April 23, 2017.

Authority: 7 U.S.C. 136 et seq.

Dated: September 17, 2014.
Lois Rossi,
Director, Registration Division, Office of Pesticide Programs.

[FR Doc. 2014-22746 Filed 9-23-14; 8:45 am]

BILLING CODE 6560-50-P